DEPARTMENT OF ENERGY

Federal Energy Regulatory Commission

Combined Notice of Filings No. 1

September 23, 2009.

Take notice that the Commission has received the following Natural Gas Pipeline Rate and Refund Report filings:

Docket Numbers: RP09-1054-000.

Applicants: Cheyenne Plains Gas Pipeline Company LLC.

Description: Cheyenne Plains Gas Pipeline Company, LLC submits Firm Transportation Service Agreement and Eleventh Revised Sheet No 1 to its FERC Gas Tariff, Original Volume No 1, to be effective 10/20/09.

Filed Date: 09/18/2009.

Accession Number: 20090921-0066.

Comment Date: 5 p.m. Eastern Time on Wednesday, September 30, 2009.

Docket Numbers: RP09-1055-000.

Applicants: Transcontinental Gas Pipe Line Company.

Description: Transcontinental Gas Pipe Line Company, LLC submits First Revised Sheet No 344 et al to its FERC Gas Tariff, Fourth Revised Volume No 1.

Filed Date: 09/21/2009.

Accession Number: 20090921-0131.

Comment Date: 5 p.m. Eastern Time on Monday, October 5, 2009.

Docket Numbers: RP09-1056-000.

Applicants: Northwest Pipeline GP.

Description: Northwest Pipeline GP submits Fifth Revised Sheet No 5 et al to its FERC Gas Tariff, Fourth Revised Volume No 1.

Filed Date: 09/21/2009.

Accession Number: 20090921-0132.

Comment Date: 5 p.m. Eastern Time on Monday, October 5, 2009.

Docket Numbers: RP09-1057-000.

Applicants: Saltville Gas Storage Company L.L.C.

Description: Saltville Gas Storage Company LLC submits Fourth Revised Sheet 148 et al of its FERC Gas Tariff, Volume 1, to be effective 11/16/09.

Filed Date: 09/22/2009.

Accession Number: 20090922-0076.

Comment Date: 5 p.m. Eastern Time on Monday, October 5, 2009.

Docket Numbers: RP09-1058-000.

Applicants: Egan Hub Storage, LLC.

Description: Egan Hub Storage, LLC submits Fifth Revised Sheet 156 et al of its FERC Gas Tariff, First Revised Volume 1, to be effective 11/16/09.

Filed Date: 09/22/2009.

Accession Number: 20090922-0077.

Comment Date: 5 p.m. Eastern Time on Monday, October 5, 2009.

Docket Numbers: RP09-1059-000.

Applicants: Southeast Supply Header, LLC.

Description: Southeast Supply Header, LLC submits its FERC Gas Tariff, Original Volume and Second Revised Sheet 342, to be effective 11/16/09.

Filed Date: 09/22/2009.

Accession Number: 20090922-0078.

Comment Date: 5 p.m. Eastern Time on Monday, October 5, 2009.

Docket Numbers: RP09-1060-000.

Applicants: Maritimes & Northeast Pipeline, L.L.C.

Description: Maritimes & Northeast Pipeline, LLC submits Eighth Revised Sheet 307 of its FERC Gas Tariff, First Revised Volume 1, to be effective 11/16/09.

Filed Date: 09/22/2009.

Accession Number: 20090922-0079.

Comment Date: 5 p.m. Eastern Time on Monday, October 5, 2009.

Docket Numbers: RP09-1061-000.

Applicants: Steckman Ridge, LP.

Description: Steckman Ridge, LP submits Second Revised Sheet 281 of its FERC Gas Tariff, Original Volume 1, to be effective 11/16/09.

Filed Date: 09/22/2009.

Accession Number: 20090922-0080.

Comment Date: 5 p.m. Eastern Time on Monday, October 5, 2009.

Docket Numbers: RP09-1062-000.

Applicants: East Tennessee Natural Gas, LLC.

Description: East Tennessee Natural Gas, LLC submits Fourth Revised Sheet 375A et al of its FERC Gas Tariff, Third Revised Volume 1, to be effective 11/16/09.

Filed Date: 09/22/2009.

Accession Number: 20090922-0081.

Comment Date: 5 p.m. Eastern Time on Monday, October 5, 2009.

Docket Numbers: RP09-1063-000.

Applicants: Algonquin Gas Transmission, LLC.

Description: Algonquin Gas Transmission, LLC submits Sixth Revised Sheet 607 et al of its FERC Gas Tariff, Fifth Revised Volume 1, to be effective 11/16/09.

Filed Date: 09/22/2009.

Accession Number: 20090922-0082.

Comment Date: 5 p.m. Eastern Time on Monday, October 5, 2009.

Docket Numbers: RP09-1064-000.

Applicants: Texas Eastern Transmission LP.

Description: Texas Eastern Transmission, LP submits Sixth Revised Sheet 509 et al of its FERC Gas Tariff, Seventh Revised Volume 1, to be effective 11/16/09.

Filed Date: 09/22/2009.

Accession Number: 20090922-0083.

Comment Date: 5 p.m. Eastern Time on Monday, October 5, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-23856 Filed 10-2-09; 8:45 am]

BILLING CODE 6717-01-P